DEPARTMENT OF COMMERCE

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Pacific Tuna Fisheries Logbook.

Form Number(s): None.

OMB Approval Number: 0648-0148.

Type of Request: Regular submission.

Burden Hours: 119.

Number of Respondents: 20.

Average Hours Per Response: 5 minutes.

Needs and Uses: The operators of U.S. purse seine vessels fishing for tuna in the eastern tropical Pacific Ocean are required (50CFR 300.22) to maintain logbooks of catch and effort. Information requirements include the date, noon position, and tonnage of fish on board by species. The data collected is used to meet U.S. obligations to the Inter-American Tropical Tuna Commission (IATTC) and for the management of tuna stocks.

Affected Public: Business or other for-profit organizations.

Frequency: Daily.

Respondent's Obligation: Mandatory.

OMB Desk Officer: David Rostker, (202) 395-3897.

Copies of the above information collection proposal can be obtained by calling or writing Diana Hynek, Departmental Paperwork Clearance Officer, (202) 482-0266, Department of Commerce, Room 6625, 14th and Constitution Avenue, NW., Washington, DC 20230 (or via the Internet at dHynek@doc.gov).

Written comments and recommendations for the proposed information collection should be sent within 30 days of publication of this notice to David Rostker, OMB Desk Officer, FAX number (202) 395-7285, or David_Rostker@omb.eop.gov.

Dated: November 7, 2007.
Gwellnar Banks,
Management Analyst, Office of the Chief Information Officer.

[FR Doc. E7-22217 Filed 11-13-07; 8:45 am]

BILLING CODE 3510-22-P